DEPARTMENT OF JUSTICE

Notice of Lodging of Settlement Pursuant to Comprehensive Environmental Response, Compensation and Liability Act

Notice is hereby given that on July 11, 2007, a proposed settlement in United States v. Alcan Aluminum Corp., et al., Civil No. 03-765, was lodged with the United States District Court for the Northern District of New York.

In this action, the United States asserted a claim against Alcan Aluminum Corp. under section 107(a) of the Comprehensive Environmental Response, Compensation and Liability Act (CERCLA), 42 U.S.C. 9607(a), for recovery of response costs incurred regarding the Quanta Resources Superfund Site in Syracuse, New York. The proposed consent decree embodies an agreement with Alcan to pay $2,011,832 of response costs. The decree provides Alcan with an covenant to sue under section 107(a) of CERCLA.

The Department of Justice will received for a period of thirty (30) days from the date of this publication comments relating to the settlement. Comments should be addressed to the Assistant Attorney General, Environmental and Natural Resources Division, and either e-mailed to pubcomment-ees.enrd@usdoj.gov or mailed to P.O. Box 7611, U.S. Department of Justice, Washington, DC 20044-76121, and should refer to U.S. v. Alcan Aluminum Corp., et al., D.J. Ref. 90-11-3-848/2.

The settlement may be examined at the Office of the United States Attorney, Northern District of New York, James Foley Building, 445 Broadway, Albany, New York 12207, and at the Region II Office of the U.S. Environmental Protection Agency, Region II Records Center, 290 Broadway, 17th Floor, New York, NY 10007-1866. During the public comment period, the settlement may also be examined on the following Department of Justice Web site: http://www.usdoj.gov/enrd/Consent_Decrees.html. A copy of the settlement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury or, if by e-mail or fax, forward a check in that amount to the Consent Decree Library at the stated address.

Ellen Mahan,
Deputy Section Chief, Environmental Enforcement Section, Environment and Natural Resources Division.

[FR Doc. 07-3749 Filed 7-31-07; 8:45 am]

BILLING CODE 4410-15-M